DEPARTMENT OF AGRICULTURE

Animal and Plant Health Inspection Service

9 CFR Parts 103, 112, and 114

[Docket No. APHIS-2008-0008]

RIN 0579-AD19

Viruses, Serums, Toxins, and Analogous Products; Packaging and Labeling

Correction

In proposed rule document 2011-648 beginning on page 2268 in the issue of Thursday, January 13, 2011, make the following correction:

On page 2269, in the third column, in first full paragraph, 20 lines from the bottom, “8 EC” should read “8 °C”.

[FR Doc. C1-2011-648 Filed 2-7-11; 8:45 am]

BILLING CODE 1505-01-D